DEPARTMENT OF COMMERCE

National Oceanic and Atmospheric Administration

RIN 0648-AW65

Atlantic Highly Migratory Species; Atlantic Shark Management Measures

AGENCY: National Marine Fisheries Service (NMFS), National Oceanic and Atmospheric Administration (NOAA), Commerce.

ACTION: Extension of comment period.

SUMMARY: In order to provide additional opportunities for the public, the Atlantic Regional Fishery Management Councils, the Atlantic and Gulf States Marine Fisheries Commissions, and other interested parties to comment on the Notice of Intent (NOI) and issues and options scoping presentation for Amendment 3 to the 2006 Consolidated Highly Migratory Species (HMS) Fishery Management Plan (FMP), NMFS is extending the scoping comment period for this action. On May 7, 2008, NMFS published an NOI to initiate an amendment to the 2006 Consolidated HMS FMP, including an Environmental Impact Statement. On July 2, 2008, NMFS published a notice that announced the availability of an issues and options scoping presentation describing potential measures for inclusion in Amendment 3 to the 2006 Consolidated HMS FMP and provided details for four scoping meetings to discuss and collect comments on these issues. Based on the July 2, 2008, notice, the comment period was scheduled to conclude on October 31, 2008. NMFS is now extending the comment period until November 14, 2008. Comments received by NMFS on the NOI and issues and options scoping presentation as well as in the scoping meetings will be used in the development of Amendment 3 to the 2006 Consolidated HMS FMP.

DATES: The deadline for comments on the NOI and the issues and options scoping presentation has been extended from October 31, 2008, as published on July 2, 2008 (73 FR 37932), to 5:00 p.m. on November 14, 2008.

ADDRESSES: As published on July 2, 2008 (73 FR 37932), written comments on this action should be sent to Karyl Brewster-Geisz, Highly Migratory Species Management Division, by any of the following methods:

• E-mail: SCS_Scoping@noaa.gov. Include the following identifier in the subject line: “Scoping Comments on Amendment 3 to Consolidated HMS FMP”.

• Written: 1315 East-West Highway, Silver Spring, MD 20910. Please mark the outside of the envelope “Scoping Comments on Amendment 3 to Consolidated HMS FMP.”

• Fax: (301) 713-1917.

For a copy of the related stock assessments or any other related documents, please contact Jessica Beck at (301) 713-2347.

FOR FURTHER INFORMATION CONTACT: Jessica Beck at (301) 713-2347, or Jackie Wilson at (240) 338-3936.

SUPPLEMENTARY INFORMATION: The Atlantic shark fisheries are managed under the authority of the Magnuson-Stevens Fishery Conservation and Management Act (Magnuson-Stevens Act). The 2006 Consolidated HMS FMP is implemented by regulations at 50 CFR part 635.

On May 7, 2008 (73 FR 25665), NMFS published an NOI that summarized the 2007 Small Coastal Shark (SCS) stock assessment conducted for Atlantic sharpnose, blacknose, bonnethead, and finetooth sharks. The NOI also described NMFS's determination of the status of these stocks based on the results of the 2007 stock assessment, including the determination that blacknose sharks are overfished with overfishing occurring. As a result of this determination, NMFS is taking steps to amend current shark management measures via a third FMP amendment to the 2006 Consolidated HMS FMP. On July 2, 2008 (73 FR 37932), NMFS published a notice that announced the availability of an issues and options scoping presentation describing potential measures for inclusion in Amendment 3 to the 2006 Consolidated HMS FMP and provided details for four scoping meetings to discuss and collect comments on these issues. NMFS anticipates completing this amendment and any related documents by January 1, 2010.

Due to the timing of the Gulf of Mexico Fishery Management Council's meeting at the end of October, NMFS is extending the comment period to provide additional opportunity for the public, the Atlantic Regional Fishery Management Councils, the Atlantic and Gulf States Marine Fisheries Commissions, and other interested parties to comment on potential SCS management measures. These comments will assist NMFS in determining the options for rulemaking to conserve and manage shark resources and fisheries, consistent with the Magnuson-Stevens Act and the 2006 Consolidated HMS FMP.

Dated: October 24, 2008.
Emily H. Menashes,
Acting Director, Office of Sustainable Fisheries, National Marine Fisheries Service.

[FR Doc. E8-25830 Filed 10-28-08; 8:45 am]

BILLING CODE 3510-22-S